DEPARTMENT OF THE INTERIOR

National Park Service

Draft Environmental Impact Statement/Fire Management Plan, Point Reyes National Seashore, Marin County, CA; Notice of Availability

SUMMARY: Pursuant to section 102(2)(C) of the National Environmental Policy Act of 1969 (Pub. L. 91-190, 42 U.S.C. 4321-4347, January 1, 1970, as amended), and the Council on Environmental Quality Regulations (40 CFR part 1500-1508), the National Park Service, Department of the Interior, has prepared a Draft Environmental Impact Statement identifying and evaluating three alternatives for a Fire Management Plan for Point Reyes National Seashore, in northern California. Potential impacts and mitigating measures are described for each alternative. The alternative selected after this conservation planning and environmental impact analysis process will serve as a blueprint for fire management actions for Point Reyes National Seashore over the next 10-15 years.

This Point Reyes Fire Management Plan (FMP) and Draft Environmental Impact Statement (DEIS) identifies and analyzes two action alternatives, and a no action alternative, for a revised Fire Management Plan for Point National Seashore (PRNS) and the north district of Golden Gate National Recreation Area (administered by PRNS). Revisions to the current plan are needed to meet public and firefighter safety, natural and cultural resource management, and wildland urban interface objectives of the park. The action alternatives vary in the emphasis they place on fire management goals developed by the park. The current program has been effective in fire suppression and conducting limited fuel reduction in strategic areas, but has not been able to fully accomplish resource management, fuel reduction, and prescribed fire goals.

The planning area for the Fire Management Plan (FMP) includes NPS lands located approximately 40 miles northwest of San Francisco in Marin County, California. These lands include the 70,046-acre Point Reyes National Seashore, comprised primarily of beaches, coastal headlands, extensive freshwater and estuarine wetlands, marine terraces, and forests; as well as 18,000 acres of the Northern District of Golden Gate National Recreation Area (GGNRA), primarily supporting annual grasslands, coastal scrub, and Douglas-fir and coast redwood forests.

Point Reyes National Seashore was created on September 13, 1962, to “save and preserve for purposes of public recreation, benefit, and inspiration, a portion of the diminishing seashore of the United States that remains undeveloped” (Pub. L. 87-657). The park is a coastal sanctuary with an exceptionally diverse variety of habitat types—roughly 20% of California's plant species and 45% of North America's bird species have been recorded within its boundaries. The Seashore contains numerous sites indicating Native American occupancy, as well as cultural resources from early periods of European settlement. To preserve the historic ranching legacy of the area, approximately 30 ranches and dairies within Seashore boundaries are under permit agreements with the Federal government.

In the past, wildland fire occurred naturally in the park as an important ecosystem process that kept forest fuels and vegetation structure within the natural range of variability. Logging and fire suppression activities have lead to increased fuel loads and changes in vegetation community structure. This has increased the risk of large, high-intensity wildland fire within the park, threatening the park's developed zones, natural and cultural resources, and neighboring landowners and communities.

Alternatives: Alternative A (No Action)—Continued Fuel Reduction for Public Safety and Limited Resource Enhancement. Alternative A represents the current fire management program which uses a limited range of fire management strategies—including prescribed fire, mechanical treatment, and suppression of all wildland fires, including natural ignitions. Alternative A would continue the existing program described in the 1993 Fire Management Plan including mechanical treatments of hazardous fuels of up to 500 acres per year, primarily mowing in grasslands. Up to 500 acres per year would be treated by prescribed burning, primarily for fuel reduction in grasslands and for Scotch and French broom control. Total treatments per year would not exceed 1,000 acres. Research projects already in progress on reducing Scotch broom and velvet grass through prescribed burning would continue under this alternative.

Alternative B—Expanded Hazardous Fuel Reduction and Additional Natural Resource Enhancement. Alternative B calls for a substantial increase over present levels in the reduction of hazardous fuels through prescribed burning and mechanical treatments (up to a combined total of 2,000 acres treated per year).

Efforts would be concentrated where unplanned ignitions would be most likely to occur (e.g., road corridors), and where defensible space could most effectively contain unplanned ignitions and protect lives and property (e.g., around structures and strategically along the park interface zone). Natural resource enhancement would occur as a secondary benefit only. For example, prescribed burning to reduce fuels may have the secondary resource benefit of controlling a flammable, invasive non-native plant.

Alternative C (Preferred Alternative)—Increased Natural Resource Enhancement and Expanded Hazardous Fuel Reduction. In addition to reduction of hazardous fuels, Alternative C would use fire management actions to markedly increase efforts to enhance natural resources. Project objectives could include increasing the abundance and distribution of T&E species, reducing infestations of invasive, non-native plants and increasing native plant cover. Prescribed burning would be used to protect or enhance cultural resources, such as reducing vegetation in areas identified as important historic viewsheds. Alternative C permits the highest number of acres treated annually for hazardous fuels reduction concentrating on high priority areas (e.g., along road corridors, around structures, and in strategic areas to create fuel breaks). Up to 3,500 acres could be treated per year using prescribed fire and mechanical treatments. Under this alternative, research efforts would be expanded to determine the effects of fire on natural resources of concern (e.g., rare and non-native species) and to determine the effectiveness of various treatments for fuel reduction. Research results would be used adaptively to guide the fire management program in maximizing benefits to natural resources, while protecting lives and property. This overall approach also has been deemed to be the “environmentally preferred” alternative.

Some actions, including the continuation of the Wildland Urban Interface Initiative Program, maintenance of fire roads and trails, vegetation clearing around buildings, suppression of unplanned ignitions, public information and education, the construction of a new fire cache for equipment storage and the continuation of the current fire monitoring program, would be carried out under all three alternatives.

Planning Background: The beginning of public scoping was announced on January 29, 2000, at a public meeting of the Point Reyes National Seashore Citizens Advisory Commission with a presentation on the overall EIS/FMP planning process. On February 3, 2000, a “Scoping Notice” for the Fire Management Plan was published in the Federal Register by the NPS. In a series of internal and public scoping meetings input on fire management issues of concern and range of alternatives was solicited from the public, Federal, State and local agencies, and NPS resource specialists. Briefings continued for local fire management and protection agencies during the FMP preparation. Scoping comments were solicited through March 28, 2000.

Comments: The FMP/DEIS will be sent directly to those who request it in writing received by regular mail or e-mail. Copies and compact discs of the document will be available at park headquarters and at local and regional libraries. The complete document will be posted on the park's Web site at http://www.nps.gov/pore/pphtml/documents.html. Written comments must be postmarked (or transmitted by e-mail) no later than 60 days from the date of EPA's notice of filing published in the Federal Register—as soon as this has been determined, the close of the comment period will be posted on the park's Web site. All comments should be addressed to the Superintendent and mailed to Point Reyes National Seashore, 1 Bear Valley Road, Point Reyes Station, CA 94956 (Attn: Fire Management Plan); e-mail should be sent to ann_nelson@nps.gov (in the subject line, type: Fire Management Plan).

In order to facilitate public review and comment on the FMP/DEIS, the Superintendent will schedule public meetings in the local area, which at this time are anticipated to occur in winter/spring, 2004. Point Reyes National Seashore staff will provide a presentation on the FMP/DEIS at the meetings and receive oral and written comments. Participants are encouraged to review the document prior to attending a meeting. As with the previous public scoping meeting for the FMP, confirmed details on location and times for these comment opportunities will be widely advertised in the local and regional media, on the park's Web site, and via direct mailings to agencies, organizations and interested members of the public.

All comments are maintained in the administrative record and will be available for public review at park headquarters. If individuals submitting comments request that their name and/or address be withheld from public disclosure, it will be honored to the extent allowable by law. Such requests must be stated prominently in the beginning of the comments. As always, NPS will make available to public inspection all submissions from organizations or businesses and from persons identifying themselves as representatives or officials of organizations and businesses; and anonymous comments may not be considered.

Decision Process: It is anticipated that the Final Environmental Impact Statement and Fire Management Plan would be completed in late 2004. The availability of the Final EIS/FMP will be published in the Federal Register, and also announced via local and regional press and Web site postings. Not sooner than 30 days after EPA's notice of filing of the Final EIS/FMP, a Record of Decision may be approved. As a delegated EIS, the official responsible for approval is the Regional Director of the Pacific West Region of the National Park Service. After approval, the official responsible for implementation of the FMP is the Superintendent, Point Reyes National Seashore.

Dated: January 27, 2004.
Jonathan B. Jarvis,
Regional Director, Pacific West Region.

[FR Doc. 04-4135 Filed 2-24-04; 8:45 am]

BILLING CODE 4312-FW-P